INTERNAL REVENUE SERVICE

26 CFR Part 1

Filing of Consolidated Returns

CFR Correction

In Title 26 of the Code of Federal Regulations, Part 1 (§ 1.1401 to End), revised as of April 1, 2000, in § 1.1502-75, paragraph (k) is corrected by correctly revising “See § 1.338(h)(10)-T(d)(7)” to read “See § 1.338(h)(10)-1T(d)(7)”.

[FR Doc. 01-55500 Filed 2-8-01; 8:45 am]

BILLING CODE 1505-01-D